ENVIRONMENTAL PROTECTION AGENCY

[FRL-7236-9]

California State Motor Vehicle Pollution Control Standards; LEVII Amendments, 1999 ZEV Amendments, and 2001 ZEV Amendments; Correction Notice Regarding Hearing Date

AGENCY: Environmental Protection Agency.

ACTION: Notice of opportunity for public hearing and comment.

SUMMARY: The California Air Resources Board has notified EPA that it has adopted amendments to its Low-Emission Vehicle (LEV) regulations including amendments to its exhaust emission standards, evaporative emission standards, its certification requirements, and to its Zero-Emission-Vehicle (ZEV) program (collectively the “LEVII amendments”; the ZEV amendments are to be referred to as the “1999 ZEV amendments”). On May 21, 2002 EPA announced an opportunity for public hearing and comment on the LEVII and 1999 ZEV amendments (67 FR 35809). Within this announcement EPA scheduled a tentative hearing for June 20, 2002 and the written comment period is scheduled to close on July 22, 2002. By today's notice EPA is announcing that the June 20, 2002 hearing has been rescheduled to July 11, 2002 and the written comment period will now close on August 12, 2002. In a related matter, CARB notified EPA that it has adopted additional amendments to its ZEV program referred to as the “2001 ZEV amendments.” On June 5, 2002 EPA announced an opportunity for public hearing and comment on the 2001 ZEV amendments (67 FR 38652). Within this later announcement EPA scheduled a tentative hearing to also take place on June 20, 2002 and the written comment period is also scheduled to close on July 22, 2002. By today's notice EPA is announcing that the June 20, 2002 hearing has been rescheduled to July 11, 2002 (for the 2001 ZEV amendments along with the LEVII and 1999 ZEV amendments) and the written comment period will now close on August 12, 2002 (for the 2001 ZEV amendments along with the LEVII and 1999 ZEV amendments).

DATES: EPA has scheduled a public hearing concerning the 1999 ZEV amendments, the LEVII amendments, and the 2001 ZEV amendments on July 11, 2002 beginning at 10 a.m. It is not necessary to request a hearing regarding any of these matters. Any party may submit written comment concerning the 1999 ZEV amendments, the LEVII amendments, and the 2001 ZEV amendments by August 12, 2002.

ADDRESSES: EPA will make available for public inspection at the Air and Radiation Docket and Information Center written comments received from interested parties, in addition to any testimony given at the public hearing. The Air Dockets is open during working hours from 8 a.m. to 4 p.m. at EPA, Air Docket (6102), Room M-1500, Waterside Mall, 401 M St., SW, Washington, DC 20460. The reference number for this docket is A-2002-11. EPA will hold the public hearing on July 11, 2002 in room 1153, 1200 Constitution Ave, NW (referred to as “EPA East”), Washington, DC.

FOR FURTHER INFORMATION CONTACT: David Dickinson, Certification and Compliance Division (6405J), U.S. Environmental Protection Agency, 1200 Pennsylvania Ave, NW, Washington, DC 20460. Telephone: (202)564-9256, Fax: (202)565-2057, e-mail address: Dickinson.David@EPA.GOV.

Dated: June 18, 2002.
Robert Brenner,
Acting Assistant Administrator for Air and Radiation.

[FR Doc. 02-15875 Filed 6-21-02; 8:45 am]

BILLING CODE 6560-50-P